DEPARTMENT OF COMMERCE

Foreign-Trade Zones Board

[Order No. 1810]

Approval for Manufacturing Authority, Foreign-Trade Zone 22, Baxter Healthcare Corporation, (Pharmaceutical and Biological Intravenous Product Manufacturing), Chicago, IL

Pursuant to its authority under the Foreign-Trade Zones Act of June 18, 1934, as amended (19 U.S.C. 81a-81u), the Foreign-Trade Zones Board (the Board) adopts the following Order:

Whereas, the Illinois International Port District, grantee of Foreign-Trade Zone 22, has requested manufacturing authority on behalf of Baxter Healthcare Corporation, within FTZ 22 in Round Lake, Illinois (FTZ Docket 60-2010, filed 10/15/2010);

Whereas, notice inviting public comment has been given in the Federal Register (75 FR 65448, 10/25/2010) and the application has been processed pursuant to the FTZ Act and the Board's regulations; and

Whereas, the Board adopts the findings and recommendations of the examiner's report, and finds that the requirements of the FTZ Act and the Board's regulations are satisfied, and that the proposal is in the public interest;

Now, therefore, the Board hereby orders:

The application for manufacturing authority under zone procedures within FTZ 22 on behalf of Baxter Healthcare Corporation, as described in the application and Federal Register notice, is approved, subject to the FTZ Act and the Board's regulations, including Section 400.28.

Signed at Washington, DC, this 31st day of January 2012.
Paul Piquado,
Assistant Secretary of Commerce for Import Administration, Alternate Chairman, Foreign-Trade Zones Board.
ATTEST:
Andrew McGilvray,
Executive Secretary.

[FR Doc. 2012-2788 Filed 2-6-12; 8:45 am]

BILLING CODE 3510-DS-P